DEPARTMENT OF ENERGY

Federal Energy Regulatory Commission

[Docket No. RP00-555-003]

Dominion Transmission, Inc., Dominion Resources, Inc. and Consolidated Natural Gas Company; Notice of Compliance Filing

January 30, 2001.

Take notice that on January 24, 2001, Dominion Transmission, Inc. (DTI) tendered for filing as part of its FERC Gas Tariff, Third Revised Volume No. 1, the following tariff sheet, with an effective date of September 23, 2000:

Second Substitute Original Sheet No. 1092.

DTI states that the filing is made to correct an inadvertent error in DTI's January 2, 2001 compliance filing in the captioned proceedings, and to comply with the Commission's December 15, 2000 order, 93 FERC ¶ 61,284 (2000). As directed by the Commission, DTI has stated in its tariff that information regarding its personnel and facilities shared with its affiliated energy companies is available on its website.

DTI states that copies of its filing have been served upon DTI's customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

David P. Boergers,
Secretary.

[FR Doc. 01-2925 Filed 2-2-01; 8:45 am]

BILLING CODE 6717-01-M